FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than July 8, 2022.

A. Federal Reserve Bank of Kansas City (Jeffrey Imgarten, Assistant Vice President) 1 Memorial Drive, Kansas City, Missouri 64198-0001:

1. Gregory Corbin Massey and the Massey Family Foundation, Inc., each of Durant, Oklahoma; to become members of the Massey Family Group, a group acting in concert, to acquire voting shares of Spend Life Wisely Company, Inc., and thereby indirectly acquire voting shares of First United Bank and Trust Company, both of Durant, Oklahoma.

2. The First National Bank and Trust Co. Chickasha, Oklahoma, Savings Incentive and Employee Stock Ownership Plan (FNBT ESOP), Patrick A. Brooks, as co-trustee, the Paula K. Brooks Revocable Trust, Paula K. Brooks, as trustee, and Mark Smith, all of Chickasha, Oklahoma; certain minor grandchildren of Mr. and Mrs. Brooks, all of Dallas, Texas; the Murray Living Trust, Bruce Murray, as co-trustee, both of Wauna, Washington; Kyle Abrahams, individually, and as co-trustee of FNBT ESOP, Elijah Young, and certain minor children of Mr. Abrahams, all of Norman, Oklahoma; and the Tanner Shelton Connel Irrevocable Trust, the Jacob Curtis Connel Irrevocable Trust, the Michael Porter Connel Irrevocable Trust, and the Kennamer Hope Connel Irrevocable Trust, Daren Connel, individually, and as co-trustee of all aforementioned trusts, all of North Richland Hills, Texas; to join the Brooks Family Group, a group acting in concert, to retain voting shares of First Independent Bancorp, Inc., and thereby indirectly retain voting shares of The First National Bank and Trust Company, both of Chickasha, Oklahoma.

B. Federal Reserve Bank of Dallas (Karen Smith, Director, Applications) 2200 North Pearl Street, Dallas, Texas 75201-2272:

1. Michael H. Fiuzat, Houston, Texas; to acquire voting shares of Central Bancshares, Inc., and thereby indirectly acquire voting shares of Central Bank, both of Houston, Texas, by becoming a trustee of both the Carolyn J. Young 2012 Trust and the John H. Young 2020 Trust, both of Houston, Texas, and a member of the Young Family Control Group.

Board of Governors of the Federal Reserve System.
Michele Taylor Fennell,
Deputy Associate Secretary of the Board.

[FR Doc. 2022-13435 Filed 6-22-22; 8:45 am]

BILLING CODE P